FEDERAL COMMUNICATIONS COMMISSION

47 CFR Part 73

[DA 04-966]

Radio Broadcasting Services; Shorter, AL

AGENCY: Federal Communications Commission.

ACTION: Final rule; denial of petition for reconsideration.

SUMMARY: This document denies a Petition for Reconsideration filed by Auburn Network, Inc. directed at a letter action in this proceeding, which dismissed the Petition for Rulemaking requesting the allotment of Channel 228A at Shorter, Alabama because it was unacceptable for consideration. With this action, the proceeding is terminated.

FOR FURTHER INFORMATION CONTACT: Rolanda F. Smith, Media Bureau (202) 418-2180.

SUPPLEMENTARY INFORMATION: This is a synopsis of the Commission's Memorandum Opinion and Order, adopted April 12, 2004, and released April 14, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com. This document is not subject to the Congressional Review Act.

Federal Communications Commission.
John A. Karousos,
Assistant Chief, Audio Division, Media Bureau.

[FR Doc. 04-10576 Filed 5-7-04; 8:45 am]

BILLING CODE 6712-01-P